NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of a revised schedule of meetings for the transaction of National Science Board business. This notice amends the notice that was published on November 7, 2016, at 81 FR 78212.

CHANGE TO START TIME OF COMMITTEE MEETING: Joint Session of CSB Subcommittee on Facilities (SCF) and CPP Open session: 4:00-4:50 p.m.

• Committee Chairs' Opening Remarks

• Approval of Prior Minutes

• Discussion of Facilities-related Information Products

• Discussion of the Annual Facility Plan

The meeting had previously been scheduled to start at 4:20 p.m. EST.

UPDATES: Please refer to the National Science Board Web site for additional information. Meeting information and schedule updates (time, place, subject matter, and status of meeting) may be found at http://www.nsf.gov/nsb/meetings/notices.jsp.

AGENCY CONTACT: John Veysey, jveysey@nsf.gov, 703-292-7000.

PUBLIC AFFAIRS CONTACT: Nadine Lymn, nlymn@nsf.gov, 703-292-2490.

Chris Blair,
Executive Assistant, National Science Board Office.

[FR Doc. 2016-27360 Filed 11-9-16; 11:15 am]

BILLING CODE 7555-01-P